DEPARTMENT OF COMMERCE

National Oceanic and Atmospheric Administration

Proposed Information Collection; Comment Request; Management and Oversight of the National Estuarine Research Reserve System

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before May 11, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Elizabeth Mountz, NOAA's Office for Coastal Management, N/OCM6, Silver Spring, MD 20910, 240-533-0819, Elizabeth.Mountz@noaa.gov.

SUPPLEMENTARY INFORMATION:

I. Abstract

This request is for extension of a current information collection. The National Estuarine Research Reserve System (NERRS) is a partnership between the National Oceanic and Atmospheric Administration (NOAA) and 22 states and Puerto Rico that protects more than 1.3 million coastal and estuarine acres in 28 Reserves for long-term research, monitoring, education, and stewardship, established under Section 315 of the Coastal Zone Management Act (CZMA) of 1972 (16 U.S.C. 1451), 16 U.S.C. 1461. The NERRS consists of carefully selected estuarine areas of the United States that are designated, preserved, and managed for research and educational purposes. The Reserves are chosen to reflect regional differences and to include a variety of ecosystem types according to the classification scheme of the national program as presented in 15 CFR part 921. As part of a national system, the Reserves collectively provide a unique opportunity to address research questions and estuarine management issues of national significance. The Reserves also serve to enhance public awareness and understanding of estuarine areas and provide suitable opportunities for public education and interpretation. Regulations provide guidance for delineating Reserve boundaries and additional guidance for arriving at the most effective and least costly approach to establishing adequate state control of key land and water areas. Any qualified public or private persons, organizations or institutions may compete for research funding to work in research Reserves. In fact, applicants are almost always states.

Subsection 3l5(e)(1)(B) of the CZMA authorizes the National Ocean Service (NOS) to make grants to, or cooperative agreements with, any coastal state or public or private institution or person for purposes of supporting research within the NERRS. This program is listed in the Catalog of Federal Domestic Assistance under “Coastal Zone Management Estuarine Research Reserve, Number 11.420”. Applications for such grants follow the provisions of 2 CFR 200. During the site selection and designation process, information is collected from states in order to prepare a management plan and environmental impact statement. Designated Reserves apply annually for operations funds by submitting a work plan; subsequently, progress reports are required every six months for the duration of the award. Each Reserve compiles an ecological characterization or site profile to describe the biological and physical environment of the Reserve, research to date and research gaps. Reserves revise their management plans every five years. A competitive fellowship program supports opportunities for graduate students to conduct research at each Reserve. This information is required to ensure that Reserves are adhering to regulations and that the Reserves are in keeping with the purpose for which they were designated.

II. Method of Collection

Respondents have a choice of either electronic or paper submissions. Methods of submittal include email of electronic forms, and mail and facsimile transmission of paper forms.

III. Data

OMB Control Number: 0648-0121.

Form Number(s): None.

Type of Review: Regular submission (extension of a current information collection).

Affected Public: Non-profit institutions; state, local, or tribal government.

Estimated Number of Respondents: 75.

Estimated Time per Response: Management plan, 1800 hours; site profile, 1800 hours; site nomination documents, 2500 hours; award application, 8 hours; award reports, 5 hours; NEPA documentation, 40 hours.

Estimated Total Annual Burden Hours: 8,216.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-04933 Filed 3-10-20; 8:45 am]

BILLING CODE 3510-08-P